ENVIRONMENTAL PROTECTION AGENCY

[EPA-HQ-OAR-2004-0082; FRL-9988-73-OEI]

Information Collection Request Submitted to OMB for Review and Approval; Comment Request; EPA's Natural Gas STAR Program (Renewal)

AGENCY: Environmental Protection Agency (EPA).

ACTION: Notice.

SUMMARY: The Environmental Protection Agency (EPA) has submitted an information collection request (ICR), EPA's Natural Gas STAR Program (EPA ICR No. 1736.08, OMB Control No. 2060-0328) to the Office of Management and Budget (OMB) for review and approval in accordance with the Paperwork Reduction Act. This is a renewal with modification of the existing ICR which expires on March 31, 2019. Public comments were previously requested via the Federal Register on September 5, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before March 25, 2019.

ADDRESSES: Submit your comments, referencing Docket ID Number EPA-HQ-OAR-2004-0082 to (1) EPA online using www.regulations.gov (our preferred method), by email to a-and-r-Docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Jerome Blackman, Office of Atmospheric Programs, Climate Change Division, (6207A), Environmental Protection Agency, 1200 Pennsylvania Ave. NW, Washington, DC 20460; telephone number: 202-343-9630; email address: Blackman.Jerome@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Natural Gas STAR is a voluntary program sponsored by the U.S. Environmental Protection Agency (EPA) that encourages oil and natural gas companies to adopt cost effective technologies and practices that improve operational efficiency and reduce methane emissions. Methane is the primary component of natural gas and a potent greenhouse gas. The Program works with oil and natural gas companies in the production, gathering & processing, transmission, and distribution sectors to remove barriers that inhibit the implementation of technologies and practices that reduce methane emissions. The Program effectively promotes the adoption of emission reduction technologies and practices by helping Natural Gas Star partners evaluate Best Management Practices (BMPs) in the context of their current operations and implement them where cost effective. Implementation of the Program's BMPs saves participants money, improves operational efficiency, and enhances the protection of the environment.

The current Memorandum of Understanding used to join the partnership has not been updated in 25 years. EPA proposes to replace it with a streamlined and more flexible Partnership Agreement which will more realistically reflect options companies have to engage with the Program. This change, in addition to updates to the annual report forms and increased flexibility regarding partner Implementation Plans, will reduce the total burden estimate for companies participating in Natural Gas STAR.

Form Numbers:

• Partnership Agreement: EPA Form No. 5900-105.

• Production Partners: EPA Form No. 5900-103.

• Transmission Partners: EPA Form No. 5900-109.

• Distribution Partners: EPA Form No. 5900-97.

• Gathering and Processing Partners: EPA Form No. 5900-100.

• Production Partners: EPA Form No. 5900-104.

• Transmission Partners: EPA Form No. 5900-95.

• Distribution Partners: EPA Form No. 5900-99.

• Gathering and Processing Partners: EPA Form No. 5900-102.

Respondents/affected entities: The gathering and processing, production, transmission, and distribution sectors of the oil and natural gas industry.

Respondent's obligation to respond: Voluntary.

Estimated number of respondents: 147 total (97 partners; 50 vendors).

Frequency of response: Annual for partners and semi-annual for vendor service directory.

Total estimated burden: 2,846 hours (per year). Burden is defined at 5 CFR 1320.03(b).

Total estimated cost: $268,577 (per year), includes $0 annualized capital or operation & maintenance costs.

Changes in the Estimates: There is decrease of burden for Partner respondents from 6,995 hours in the ICR currently approved by OMB to 2,834 under this renewal request. This decrease is attributed to the Program's maturity and the fact that partner burden decreases over time as internal processes are established, a decrease in the number of companies joining Gas STAR, a decrease in the estimated number of partners submitting reports annually, and the streamlining of the Partnership Agreement and annual report forms. EPA estimates that approximately 50 companies will complete the Service Provider Directory form with a total burden of 13 hours annually.

Courtney Kerwin,
Director, Regulatory Support Division.

[FR Doc. 2019-03060 Filed 2-21-19; 8:45 am]

BILLING CODE 6560-50-P